DEPARTMENT OF THE TREASURY

Submission for OMB Review; Comment Request

October 12, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 20, 2000 to be assured of consideration.

Internal Revenue Service (IRS)

OMB Number: 1545-1130.

Form Number: IRS Form 8816.

Type of Review: Revision.

Title: Special Loss Discount Account and Special Estimated Tax Payments for Insurance Companies.

Description: Form 8816 is used by insurance companies claiming an additional deduction under IRC section 847 to reconcile heir special loss discount and special estimated tax payments, and to determine their tax benefit associated with the deduction. The information is needed by the IRS to determine that the proper additional deduction was claimed and to insure the proper amount of special estimated tax was computed and deposited.

Respondents: Business or other for-profit.

Estimated Number of Respondents/Recordkeepers: 3,000.

Estimated Burden Hours Per Respondent/Recordkeeper:

Recordkeeping—4 hr., 18 min.

Learning about the law or the form—1 hr., 0 min.

Preparing, copying, assembling and sending the form to the IRS—1 hr., 6 min.

Frequency of Response: Annually.

Estimated Total Reporting/Recordkeeping Burden: 19,200 hours.

OMB Number: 1545-1550.

Notice Number: Notice 97-45.

Type of Review: Extension.

Title: Highly Compensated Employee Definition.

Description: This notice provides guidance on the definition of a highly compensated employee within the meaning of section 414(q) of the Internal Revenue Code as simplified by section 1431 of the Small Business Job Protection Act of 1996, including an employer's option to make a top-paid group election under section 414(q)(1)(B)(ii).

Respondents: Business or other for-profit, not-for-profit institutions.

Estimated Number of Recordkeepers: 218,683.

Estimated Burden Hours Per Recordkeeper: 18 minutes.

Estimated Total Recordkeeping Burden: 65,605 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Department Reports Management Officer.

[FR Doc. 00-26797 Filed 10-18-00; 8:45 am]

BILLING CODE 4830-01-M